ENVIRONMENTAL PROTECTION AGENCY

[EPA-HQ-OECA-2013-0326; FRL-9912-07-OEI]

Information Collection Request Submitted to OMB for Review and Approval; Comment Request; NSPS for Asphalt Processing and Roofing Manufacture (Renewal)

AGENCY: Environmental Protection Agency (EPA).

ACTION: Notice.

SUMMARY: The Environmental Protection Agency has submitted an information collection request (ICR), NSPS for Asphalt Processing and Roofing Manufacture (40 CFR Part 60, Subpart UU) (Renewal) (EPA ICR No. 0661.10, OMB Control No. 2060-0002), to the Office of Management and Budget (OMB) for review and approval in accordance with the Paperwork Reduction Act. This is a proposed extension of the ICR, which is currently approved through June 30, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 25, 2014.

ADDRESSES: Submit your comments, referencing Docket ID Number EPA-HQ-OECA-2013-0326, to: (1) EPA online, using www.regulations.gov (our preferred method), or by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: Owners and operators must notify EPA of construction modification startups, shutdowns, malfunctions, and data and results of performance test. Owners/operators must continually monitor and record temperature in specified pollution control devices. EPA determines parameters to be recorded in other control devices upon description of that device by the source.

Form Numbers: None.

Respondents/affected entities: Asphalt processing and roofing manufacturer facilities.

Respondent's obligation to respond: Mandatory (40 CFR part 60, subpart UU).

Estimated number of respondents: 144 (total).

Frequency of response: Initially, occasionally and semiannually.

Total estimated burden: 33,912 hours (per year). Burden is defined at 5 CFR 1320.3(b).

Total estimated cost: $8,557,168 (per year), which includes $5,240,000 annualized capital or operation & maintenance costs.

Changes in the Estimates: There is no change in the labor hours in this ICR compared to the previous ICR. This is due to two considerations: (1) The regulations have not changed over the past three years and are not anticipated to change over the next three years; and (2) the growth rate for the respondents is very low, negative, or non-existent. Therefore, the burden hours in the previous ICR reflect the current burden and are reiterated in this ICR. However, there is an adjustment decrease in the respondent cost and an adjustment increase in the Agency cost due to an update in labor rates.

Spencer Clark,
Acting Director, Collection Strategies Division.

[FR Doc. 2014-14886 Filed 6-24-14; 8:45 am]

BILLING CODE 6560-50-P